DEPARTMENT OF THE INTERIOR

Fish and Wildlife Service

[FWS-R5-R-2012-N078; BAC-4311-K9-S3]

Patuxent Research Refuge, Prince George's and Anne Arundel Counties, MD; Draft Comprehensive Conservation Plan and Environmental Assessment

AGENCY: Fish and Wildlife Service, Interior.

ACTION: Notice of availability; request for comments.

SUMMARY: We, the U.S. Fish and Wildlife Service (we, the Service), announce the availability of a draft comprehensive conservation plan and environmental assessment (CCP/EA) for Patuxent Research Refuge (Patuxent RR), located in Prince George's and Anne Arundel Counties, Maryland, for public review and comment. The draft CCP/EA describes our proposal for managing the refuge for the next 15 years.

Also available for public review and comment are the draft findings of appropriateness and draft compatibility determinations for uses to be allowed upon initial completion of the plan, if alternative B is selected. These are included as appendix C in the draft CCP/EA.

DATES: To ensure consideration, please send your comments no later than November 26, 2012. We will announce upcoming public meetings in local news media, via our project mailing list, and on our regional planning Web site: http://www.fws.gov/northeast/planning/patuxent/ccphome.html.

ADDRESSES: You may submit comments or requests for copies or more information by any of the following methods. You may request hard copies or a CD-ROM of the documents.

Email: northeastplanning@fws.gov. Please include “Patuxent RR Draft CCP” in the subject line of the message.

Fax: Attention: Bill Perry, 413-253-8468.

U.S. Mail: Bill Perry, Natural Resource Planner, U.S. Fish and Wildlife Service, 300 Westgate Center Drive, Hadley, MA 01035.

In-Person Drop-off, Viewing, or Pickup: Call 301-497-5580 to make an appointment (necessary for view/pickup only) during regular business hours at Patuxent RR, 10901 Scarlet Tanager Loop, Laurel, MD 20708. For more information on locations for viewing or obtaining documents, see “Public Availability of Documents” under SUPPLEMENTARY INFORMATION.

FOR FURTHER INFORMATION CONTACT: Brad Knudsen, Refuge Manager, 301-437-5580 (phone), or Bill Perry, Planning Team Leader, 413-253-8688 (phone); northeastplanning@fws.gov (email).

SUPPLEMENTARY INFORMATION:

Introduction

With this notice, we continue the CCP process for Patuxent RR. We started this process through a notice in the Federal Register (75 FR 12563; March 16, 2010).

Patuxent RR was established in 1936 by Executive Order by President Franklin D. Roosevelt “to effectuate further the purposes of the Migratory Bird Conservation Act” and “as a wildlife experiment and research refuge.” The total approved acquisition boundary encompasses 12,841 acres between Baltimore, Maryland, and Washington, DC—an area with one of the highest densities of development in the United States. Currently, about 10,000 of Patuxent RR's 12,841 acres are forest, but the refuge also contains grasslands, freshwater marshes, shrub and early successional forest, and open water. It provides important habitat for a variety of migratory birds of conservation concern. The refuge also offers unique opportunities for environmental education and interpretation in an urban setting and is home to the U.S. Geological Survey (USGS) Patuxent Wildlife Research Center, a leading international research institute for wildlife and applied environmental research.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

We started pre-planning for the Patuxent RR CCP in December 2009. In February 2010, we distributed our first newsletter and press release announcing our intent to prepare a CCP for the refuge. In February and March 2010, we had a formal public scoping period. The purpose of the public scoping period was to solicit comments from the community and other interested parties on the issues and impacts that should be evaluated in the draft CCP/EA. To help solicit public comments, we held two public meetings at the refuge during the formal public scoping period. Throughout the rest of the planning process, we have conducted additional outreach by participating in community meetings, events, and other public forums, and by requesting public input on managing the refuge and its programs. We received comments on topics such as the potential effects of climate change, habitat management, reforesting, environmental education programs, and other public uses of the refuge. We have considered and evaluated all of the comments we received and addressed them in various ways in the alternatives presented in the draft CCP/EA.

CCP Alternatives We Are Considering

During the public scoping process, we, the Maryland Department of Natural Resources, other governmental partners, and the public raised several issues. To address these issues, we developed and evaluated three alternatives in the draft CCP/EA. A full description of each alternative is in the draft CCP/EA. All alternatives include measures to control invasive species, monitor and abate diseases affecting wildlife and plant health, coordinate with USGS to house and support research efforts, protect cultural resources, continue existing projects managed by outside programs, and minimize impacts from the shooting ranges located on the refuge. There are also several actions that are common to both alternatives B and C. These include using green technology to update refuge buildings and grounds, constructing additional space for environmental education and interpretation classes, and collaborating with stakeholders on a redesign of the shooting ranges.

There are other actions that differ among the alternatives. The draft CCP/EA describes each alternative in detail and relates it to the issues and concerns that arose during the planning process. Below, we provide summaries for the three alternatives.

Alternative A (Current Management)

Alternative A (current management) satisfies the National Environmental Policy Act (40 CFR 1506.6(b)) requirement of a “no action” alternative, which we define as “continuing current management.” It describes our existing management priorities and activities, and serves as a baseline for comparing and contrasting alternatives B and C. It would maintain our present levels of approved refuge staffing and the biological and visitor programs now in place. We would continue to manage for and maintain a diversity of habitats, including forests, forested wetlands, pine-oak savannah, grasslands, and scrub-shrub on the refuge. The refuge would continue to provide an active visitor use program that supports environmental education and interpretation, hunting, fishing, and wildlife observation and photography.

Alternative B (Forest Restoration and Mixed Public Use)

This alternative is the Service-preferred alternative. It combines the actions we believe would most effectively achieve the refuge's purposes, vision, and goals, and respond to the issues raised during the scoping period. It emphasizes the management of specific refuge habitats to support species of conservation concern in the Chesapeake Bay region. In particular, it emphasizes forest biodiversity and ecosystem function. This includes the restoration of a number of impoundments and grasslands to forested areas to support forest interior-dwelling bird species and other forest-dependent species. In addition, alternative B strives to promote wildlife-dependent public uses, while allowing for non-wildlife-dependent public uses. In particular, it promotes higher quality hunting and fishing programs; expands wildlife observation, viewing, and photography opportunities; and initiates new interpretive program and environmental education opportunities.

Alternative C (Maximize Forest Interior Restoration and Emphasize Wildlife-dependent Public Use Activities)

Alternative C would focus on maximizing interior forest habitat. This would require active management to restore a majority of impoundments and grasslands into forested areas that would support forest interior-dwelling species, in addition to other species of conservation concern. Alternative C also focuses on accommodating wildlife-dependent public uses while minimizing non-wildlife-dependent uses, particularly by expanding wildlife observation, viewing, and photography opportunities and reducing the number of special events and interpretive programming.

Public Availability of Documents

In addition to any methods in ADDRESSES, you can view or obtain documents at the following locations:

• Our Web site: http://www.fws.gov/northeast/planning/patuxent/ccphome.html.

Submitting Comments

We consider comments substantive if they:

• Question, with reasonable basis, the accuracy of the information in the document;

• Question, with reasonable basis, the adequacy of the EA;

• Present reasonable alternatives other than those presented in the EA; and/or

• Provide new or additional information relevant to the EA.

Next Steps

After this comment period ends, we will analyze the comments and address them in the form of a final CCP and, if appropriate, a finding of no significant impact.

Public Availability of Comments

Before including your address, phone number, email address, or other personal identifying information in your comment, you should be aware that your entire comment—including your personal identifying information—may be made publicly available at any time. While you can ask us in your comment to withhold your personal identifying information from public review, we cannot guarantee that we will be able to do so.

Dated: August 14, 2012.
Deborah Rocque,
Acting Regional Director, Northeast Region.

[FR Doc. 2012-24929 Filed 10-9-12; 8:45 am]

BILLING CODE 4310-55-P